DEPARTMENT OF HEALTH AND HUMAN SERVICES

Recharter for the Advisory Committee on Interdisciplinary, Community-Based Linkages

AGENCY: Health Resources and Services Administration (HRSA), Department of Health and Human Services.

ACTION: Notice.

SUMMARY: In accordance with the Federal Advisory Committee Act (FACA), the Department of Health and Human Services is hereby giving notice that the Advisory Committee on Interdisciplinary, Community-Based Linkages (ACICBL or Advisory Committee) has been rechartered. The effective date of the renewed charter is March 24, 2023.

FOR FURTHER INFORMATION CONTACT: Shane Rogers, Designated Federal Official, Bureau of Health Workforce, HRSA, 5600 Fishers Lane, 15N142, Rockville, Maryland 20857; 301-443-5260; or BHWACICBL@hrsa.gov.

SUPPLEMENTARY INFORMATION: The Advisory Committee provides advice and recommendations on policy and program development to the Secretary of Health and Human Services (Secretary) concerning the activities authorized under Title VII, Part D of the Public Health Service Act, and is responsible for submitting an annual report to the Secretary and Congress describing the activities of the Advisory Committee, including findings and recommendations concerning the activities under Part D of Title VII. In addition, ACICBL develops, publishes, and implements performance measures and guidelines for longitudinal evaluations, as well as recommends appropriation levels for programs under Part D of Title VII. The renewed charter for ACICBL was approved on March 23, 2023. The filing date is March 24, 2023. Recharter of the ACICBL gives authorization for the Advisory Committee to operate until March 24, 2025.

A copy of the charter is available on the ACICBL website at https://www.hrsa.gov/advisory-committees/interdisciplinary-community-linkages/index.html. A copy of the charter also can be obtained by accessing the FACA database that is maintained by the Committee Management Secretariat under the General Services Administration. The website address for the FACA database is http://www.facadatabase.gov/.

Maria G. Button,
Director, Executive Secretariat.

[FR Doc. 2023-06444 Filed 3-28-23; 8:45 am]

BILLING CODE 4165-15-P